DEPARTMENT OF TRANSPORTATION

Federal Aviation Administration

14 CFR Part 39

[Docket No. FAA-2006-24288; Directorate Identifier 2006-NM-068-AD; Amendment 39-14540; AD 2006-07-13]

RIN 2120-AA64

Airworthiness Directives; Airbus Model A310 Airplanes, Model A300 B4-600 Series Airplanes, Model A300 B4-600R Series Airplanes, Model A300 F4-600R Series Airplanes, and Model A300 C4-605R Variant F Airplanes

AGENCY: Federal Aviation Administration (FAA), Department of Transportation (DOT).

ACTION: Final rule; request for comments.

SUMMARY: The FAA is adopting a new airworthiness directive (AD) for certain Airbus Model A310 airplanes, Model A300 B4-600 series airplanes, Model A300 B4-600R series airplanes, Model A300 F4-600R series airplanes, and Model A300 C4-605R Variant F airplanes. This AD requires inspections of the rudder for discrepancies and corrective action if necessary. This AD also requires reporting all inspection results to the airplane manufacturer and the FAA. This AD results from two separate findings of inner skin disbonding discovered while undergoing unrelated repair and maintenance procedures. We are issuing this AD to detect discrepancies of the rudder, which could result in reduced structural integrity of the rudder.

DATES: This AD becomes effective March 30, 2006.

The Director of the Federal Register approved the incorporation by reference of certain publications listed in the AD as of March 30, 2006.

We must receive comments on this AD by May 30, 2006.

ADDRESSES: Use one of the following addresses to submit comments on this AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this AD.

FOR FURTHER INFORMATION CONTACT: Tom Stafford, Aerospace Engineer, International Branch, ANM-116, Transport Airplane Directorate, FAA, 1601 Lind Avenue, SW., Renton, Washington 98055-4056; telephone (425) 227-1622; fax (425) 227-1149.

SUPPLEMENTARY INFORMATION:

Discussion

The European Aviation Safety Agency (EASA) notified us that an unsafe condition may exist on certain Airbus Model A310 airplanes; and Model A300 B4-600, B4-600R, and F4-600R series airplanes and Model C4-605R Variant F airplanes (collectively called A300-600 series airplanes); equipped with a carbon fiber reinforced plastic (CFRP) rudder, any series of part number (P/N) A55471500. The EASA advises that, during maintenance on a Model A300-600 series airplane, a CFRP rudder was damaged at the trailing edge during a rudder swing test. During damage assessment following this event, unrelated disbonding of the inner skin to the honeycomb core was detected at the lower skin, close to the front spar. Further examination revealed traces of hydraulic fluid in the disbonded area. During an inspection performed as part of the repair process, damage was found on the inner skin starting at the junction between the rudder spar and the lower rib. The EASA also advises that, in a separate incident, disbonding of the rudder inner skin also was detected on a Model A310 airplane undergoing paint removal. Discrepancies of the rudder, if not detected, could result in reduced structural integrity of the rudder.

Relevant Service Information

Airbus has issued All Operators Telex (AOT) A310-55A2043 and AOT A300-55A6042, both dated March 2, 2006. The AOTs describe doing the following procedures:

• Checking the drainage at the lower edge of the rudder spar for the correct condition. If the aft edge sides of the leading edge butt strap at rib 0 are not clean, the AOTs specify restoring the drainage to the correct condition.

• Doing a visual examination of the rudder external surfaces for the presence of contaminant hydraulic fluids. If any contaminant hydraulic fluid is found, the AOTs specify cleaning the rudder external surfaces.

• Cleaning the inner surface of the rudder panels.

• Doing a manual tap test inspection, or an automatic tap test inspection using Woodpecker tool WP632, at the inner side of the rudder panels for any disbond. If any disbond is found using the manual tap test, the AOTs recommend doing a confirmation test using Woodpecker tool WP632 of the disbond. If any disbond is found using Woodpecker tool WP632, the AOTs specify marking the perimeter of any damaged area and documenting the location and size of the finding.

• Depending on the number of disbonds found and size of a disbond found, the AOTs specify taking the following corrective actions: Reinspecting the damaged area or doing a permanent repair, within 2,500 flight cycles; doing a permanent repair before further flight, or doing a temporary repair before further flight and then the permanent repair within 1,500 flight cycles; contacting the manufacturer for further instructions before further flight; or extending the inspection area to find all the damage.

• Reporting all inspection findings to the manufacturer.

The EASA mandated the AOTs and issued airworthiness directive 2006-0066, dated March 24, 2006, to ensure the continued airworthiness of these airplanes in the European Union.

AOT A310-55A2043 refers to Chapter 55-42-11 of the Airbus A310 Structural Repair Manual (SRM) as an additional source of service information for restoring the drainage to the correct condition. AOT A310-55A2043 refers to Chapter 51-78-20 of the A310 SRM as an additional source of service information for cleaning hydraulic fluids from the rudder external surfaces. AOT A310-55A2043 refers to Chapter 55-41-12 of the A310 SRM as an additional source of service information for accomplishing the temporary or permanent repair.

AOT A300-55A6042 refers to Chapter 55-42-11 of the Airbus A300-600 SRM as an additional source of service information for restoring the drainage to the correct condition. AOT A300-55A6042 refers to Chapter 51-78-20 of the A300-600 SRM as an additional source of service information for cleaning hydraulic fluids from the rudder external surfaces. AOT A300-55A6042 refers to Chapter 55-41-12 of the A300-600 SRM as an additional source of service information for accomplishing the temporary or permanent repair.

FAA's Determination and Requirements of This AD

These airplane models are manufactured in France and are type certificated for operation in the United States under the provisions of section 21.29 of the Federal Aviation Regulations (14 CFR 21.29) and the applicable bilateral airworthiness agreement. Pursuant to FAA Order 8100.14A, “Interim Procedures for Working with the European Community on Airworthiness Certification and Continued Airworthiness,” dated August 12, 2005, the EASA has kept the FAA informed of the situation described above. We have examined the EASA's findings, evaluated all pertinent information, and determined that we need to issue an AD for products of this type design that are certificated for operation in the United States.

Therefore, we are issuing this AD to detect discrepancies of the rudder, which could result in reduced structural integrity of the rudder. This AD requires accomplishing the actions specified in the service information described previously, except as discussed under “Differences Between the AD and the EASA's Airworthiness Directive.” The AD also requires sending all inspection results to Airbus and the FAA.

Differences Between the AD and the EASA's Airworthiness Directive

The EASA's airworthiness directive 2006-0066 requires accomplishing any corrective actions in accordance with AOT A310-55A2043 and AOT A300-55A6042, as applicable. For the condition where one disbond area per panel with a diameter of less than 130mm is found, the AOTs recommend either reinspecting or doing a permanent repair within 2,500 flight cycles after the inspection. However, we have determined that the safety of the fleet would be better addressed by repair of the damaged area. This AD requires accomplishing either a temporary or permanent repair within 6 months. If the temporary repair is accomplished, this AD further requires accomplishing the permanent repair within 1,500 flight cycles after the temporary repair.

The EASA's airworthiness directive 2006-0066 describes procedures for submitting all inspection results to the manufacturer. This AD also requires that action, as well as submitting all inspection findings to the FAA.

The EASA's airworthiness directive 2006-0066 (in accordance with the referenced Airbus AOTs) requires contacting the manufacturer for instructions on how to repair certain conditions. This AD requires repairing those conditions using a method that we approve.

Clarification of Inspection Terminology

The “check” and “visual examination” specified in the Airbus AOTs are referred to as “general visual inspections” in this AD. We have included the definition for a general visual inspection in a note in this AD.

Interim Action

This is considered to be interim action. The inspection reports that are required by this AD will enable the manufacturer to obtain better insight into the nature, cause, and extent of the damage, and eventually to develop final action to address the unsafe condition. Once final action has been identified, the FAA may consider further rulemaking.

FAA's Determination of the Effective Date

An unsafe condition exists that requires the immediate adoption of this AD; therefore, providing notice and opportunity for public comment before the AD is issued is impracticable, and good cause exists to make this AD effective in less than 30 days.

Comments Invited

This AD is a final rule that involves requirements that affect flight safety and was not preceded by notice and an opportunity for public comment; however, we invite you to submit any relevant written data, views, or arguments regarding this AD. Send your comments to an address listed in the ADDRESSES section. Include “Docket No. FAA-2006-24288; Directorate Identifier 2006-NM-068-AD” at the beginning of your comments. We specifically invite comments on the overall regulatory, economic, environmental, and energy aspects of the AD that might suggest a need to modify it.

We will post all comments we receive, without change, to http://dms.dot.gov, including any personal information you provide. We will also post a report summarizing each substantive verbal contact with FAA personnel concerning this AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2006-07-13 Airbus: Amendment 39-14540. Docket No. FAA-2006-24288; Directorate Identifier 2006-NM-068-AD.

Effective Date

(a) This AD becomes effective March 30, 2006.

Affected ADs

(b) None.

Applicability

(c) This AD applies to Airbus Model A310 airplanes; Model A300 B4-601, B4-603, B4-620, and B4-622 airplanes; Model A300 B4-605R and B4-622R airplanes; Model A300 F4-605R and F4-622R airplanes; and Model A300 C4-605R Variant F airplanes; certificated in any category; equipped with a carbon fiber reinforced plastic (CFRP) rudder having any series of part number (P/N) A55471500; except for those airplanes on which Airbus Modification 8827 has been incorporated in production.

Unsafe Condition

(d) This AD results from two separate findings of inner skin disbonding discovered while undergoing unrelated repair and maintenance procedures. We are issuing this AD to detect discrepancies of the rudder, which could result in reduced structural integrity of the rudder.

Compliance

(e) You are responsible for having the actions required by this AD performed within the compliance times specified, unless the actions have already been done.

Inspections and Corrective Actions

(f) Within 500 flight cycles or 120 days after the effective date of this AD, whichever occurs first: Do the actions specified in paragraphs (f)(1), (f)(2), and (f)(3) of this AD, in accordance with paragraph 4.2.2 of Airbus All Operators Telex (AOT) A310-55A2043 (for Model A310 airplanes) or AOT A300-55A6042 (for Model A300 B4-601, B4-603, B4-620, and B4-622 airplanes; Model A300 B4-605R and B4-622R airplanes; Model A300 F4-605R and F4-622R airplanes; and Model A300 C4-605R Variant F airplanes), both dated March 2, 2006, as applicable.

(1) Do a general visual inspection of the drainage at the lower edge of the rudder spar to determine if the aft edges of the leading edge butt strap at rib 0 are clean. If any aft edge side of the leading edge butt strap at rib 0 is not clean, before further flight, restore the drainage to the correct condition.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Note 2: AOT A310-55A2043 refers to Chapter 55-42-11 of the Airbus A310 Structural Repair Manual (SRM) as an additional source of service information for restoring the drainage to the correct condition. AOT A300-55A6042 refers to Chapter 55-42-11 of the Airbus A300-600 SRM as an additional source of service information for restoring the drainage to the correct condition.

(2) Do a general visual inspection of the rear spar of the rudder external surfaces below the rudder actuators for the presence of hydraulic fluid. If any hydraulic fluid is found, before further flight, clean the contaminated rudder external surfaces.

Note 3: AOT A310-55A2043 refers to Chapter 51-78-20 of the Airbus A310 SRM as an additional source of service information for cleaning hydraulic fluids from the rudder external surfaces. AOT A300-55A6042 refers to Chapter 51-78-20 of the Airbus A300-600 SRM as an additional source of service information for cleaning hydraulic fluids from the rudder external surfaces.

(3) Clean the inner surface of the rudder panels and do a manual tap test inspection, or an automatic tap test inspection using Woodpecker tool WP632, at the inner side of the rudder panels for any disbonding in the inspection areas defined in Airbus Technical Disposition 943.0046/06, dated March 2, 2006. If any disbond area is found during a manual tap test inspection, as an option, an automatic tap test inspection using Woodpecker tool WP632 may be accomplished before further flight to verify the finding. If any disbond area crosses the perimeter of any inspection zone defined in Airbus Technical Disposition 943.0046/06, before further flight, repeat the tap test inspection in the applicable area outside of the defined inspection zone to obtain the size of the entire disbond area.

(i) If one disbond area per panel with a diameter of less than 130mm is found during the inspection required by paragraph (f)(3) of this AD: Within 6 months, do a temporary or permanent repair of the disbond area using a method approved by the Manager, International Branch, ANM-116, Transport Airplane Directorate, FAA. Chapter 55-41-12 of the Airbus A310 SRM is one approved method for accomplishing the temporary or permanent repair on Model A310 airplanes. Chapter 55-41-12 of the Airbus A300-600 SRM is one approved method for accomplishing the temporary or permanent repair on Model A300 B4-601, B4-603, B4-620, and B4-622 airplanes; Model A300 B4-605R and B4-622R airplanes; Model A300 F4-605R and F4-622R airplanes; and Model A300 C4-605R Variant F airplanes. If a temporary repair is accomplished, within 1,500 flight cycles after accomplishing the temporary repair, do a permanent repair of the disbond area in accordance with this paragraph.

(ii) If one disbond area per panel with a diameter of 130mm or greater, but less than 200mm, is found during the inspection required by paragraph (f)(3) of this AD: Before further flight after the inspection, do a temporary or permanent repair of the disbond area using a method approved by the Manager, International Branch, ANM-116, FAA. Chapter 55-41-12 of the Airbus A310 SRM is one approved method for accomplishing the temporary or permanent repair on Model A310 airplanes. Chapter 55-41-12 of the Airbus A300-600 SRM is one approved method for accomplishing the temporary or permanent repair on Model A300 B4-601, B4-603, B4-620, and B4-622 airplanes; Model A300 B4-605R and B4-622R airplanes; Model A300 F4-605R and F4-622R airplanes; and Model A300 C4-605R Variant F airplanes. If a temporary repair is accomplished, within 1,500 flight cycles after accomplishing the temporary repair, do a permanent repair of the disbond area in accordance with this paragraph.

(iii) If one disbond area per panel with a diameter of 200mm or greater is found during the inspection required by paragraph (f)(3) of this AD: Before further flight after the inspection, repair the disbond area using a method approved by the Manager, International Branch, ANM-116, FAA.

(iv) If more than one disbond area of any diameter is found on a single panel during the inspection required by paragraph (f)(3) of this AD: Before further flight, repair the disbond areas using a method approved by the Manager, International Branch, ANM-116, FAA.

Reporting Requirement

(g) At the applicable time specified in paragraph (g)(1) or (g)(2) of this AD, submit a report of all findings (both positive and negative) of the inspection required by paragraph (f)(3) of this AD to M. Xavier Jolivet, Dept. SEE83; fax +33(0) 5 61-93-36-14; e-mail Xavier.Jolivet@airbus.com, and to Thomas Stafford, International Branch, ANM-116, FAA; fax (425) 227-1149; e-mail Thomas.Stafford@faa.gov. The report must include the inspection results, a description of any discrepancies found, the airplane serial number, and the number of landings and flight hours on the airplane. Under the provisions of the Paperwork Reduction Act (44 U.S.C. 3501 et seq.), the Office of Management and Budget (OMB) has approved the information collection requirements contained in this AD and has assigned OMB Control Number 2120-0056.

(1) If the inspection is accomplished after the effective date of this AD: Submit the report within 10 days after the inspection.

(2) If the inspection was accomplished before the effective date of this AD: Submit the report within 10 days after the effective date of this AD.

Parts Installation

(h) As of the effective date of this AD, no person may install a CFRP rudder, any series of P/N A55471500, on any airplane, unless the CFRP rudder has been inspected and any applicable corrective action has been accomplished in accordance with paragraphs (f)(2) and (f)(3) of this AD.

Alternative Methods of Compliance (AMOCs)

(i)(1) The Manager, International Branch, ANM-116, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(j) The European Aviation Safety Agency's airworthiness directive 2006-0066, dated March 24, 2006, also addresses the subject of this AD.

Material Incorporated by Reference

(k) You must use Airbus All Operators Telex A310-55A2043, dated March 2, 2006, or Airbus All Operators Telex A300-55A6042, dated March 2, 2006, as applicable; and Airbus Technical Disposition 943.0046/06, dated March 2, 2006; to perform the actions that are required by this AD, unless the AD specifies otherwise. (Only page 1 of Airbus All Operators Telex A310-55A2043 and Airbus All Operators Telex A300-55A6042 contains the document number and date of the document; no other page of the document contains this information.) The Director of the Federal Register approved the incorporation by reference of these documents in accordance with 5 U.S.C. 552(a) and 1 CFR part 51. Contact Airbus, 1 Rond Point Maurice Bellonte, 31707 Blagnac Cedex, France, for a copy of this service information. You may review copies at the Docket Management Facility, U.S. Department of Transportation, 400 Seventh Street, SW., room PL-401, Nassif Building, Washington, DC; on the Internet at http://dms.dot.gov; or at the National Archives and Records Administration (NARA).

For information on the availability of this material at the NARA, call (202) 741-6030, or go to http://www.archives.gov/ federal_register/code_of_federal_regulations/ ibr_locations.html.

Issued in Renton, Washington, on March 24, 2006.
Ali Bahrami,
Manager, Transport Airplane Directorate, Aircraft Certification Service.

[FR Doc. 06-3119 Filed 3-28-06; 12:45 pm]

BILLING CODE 4910-13-P